DEPARTMENT OF VETERANS AFFAIRS

[OMB Control No. 2900-0091]

Agency Information Collection Activities Under OMB Review

AGENCY: Veterans Health Administration, Department of Veterans Affairs.

ACTION: Notice.

SUMMARY: In compliance with the Paperwork Reduction Act (PRA) of 1995 (44 U.S.C. 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before January 22, 2002.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail to: denise.mclamb@mail.va.gov. Please refer to “OMB Control No. 2900-0091.”

SUPPLEMENTARY INFORMATION: Title: Application for Medical Benefits, VA Form 10-10EZ.

OMB Control Number: 2900-0091.

Type of Review: Extension of a currently approved collection.

Abstract: The form is used to establish a system of records on veterans applying and/or enrolling for VA medical care benefits. The information collected is used to establish basic eligibility for VA benefits; enroll veterans into the VA health care enrollment system; determine a veteran's marital status, next-of-kin and emergency contacts for care management and consent purposes; establish eligibility for cost free health care, mileage reimbursement and prescription co-payment exemption for certain veterans; identify those veterans who have third party health insurance for billing purposes to recover the cost of medical care furnished to veterans for treatment of nonservice-connected conditions; and establish an individual's eligibility for other health services, including but not limited to nursing home, dental and domiciliary care.

An agency may not conduct or sponsor, and a person is not required to respond to a collection of information unless it displays a currently valid OMB control number. The Federal Register Notice with a 60-day comment period soliciting comments on this collection of information was published on September 6,2001, at pages 46683-46684.

Affected Public: Individuals or households.

Estimated Annual Burden: 2,613,750 hours.

Estimated Average Burden Per Respondent: 45 minutes.

Frequency of Response: Annually.

Estimated Number of Respondents: 3,485,000.

Send comments and recommendations concerning any aspect of the information collection to VA's OMB Desk Officer, OMB Human Resources and Housing Branch, New Executive Office Building, Room 10235, Washington, DC 20503, (202) 395-7316. Please refer to “OMB Control No. 2900-0091” in any correspondence.

Dated: December 6, 2001.
By direction of the Secretary.
Donald L. Neilson,
Director, Information Management Service.

[FR Doc. 01-31295 Filed 12-19-01; 8:45 am]

BILLING CODE 8320-01-P